DEPARTMENT OF ENERGY

Federal Energy Regulatory Commission

18 CFR Part 381

[Docket No. RM01-3-000]

Annual Update of Filing Fees

January 9, 2001.

AGENCY: Federal Energy Regulatory Commission (DOE).

ACTION: Final rule; annual update of Commission filing fees.

SUMMARY: In accordance with § 381.104 of the Commission's regulations, the Commission issues this update of its filing fees. This notice provides the yearly update using data in the Commission's Payroll Utilization Reporting System and the Commission's Management, Administrative, and Payroll System to calculate the new fees. The purpose of updating is to adjust the fees on the basis of the Commission's costs for Fiscal Year 1999.

EFFECTIVE DATE: February 15, 2001.

FOR FURTHER INFORMATION CONTACT: Troy Cole, Office of the Executive Director, Federal Energy Regulatory Commission, 888 First Street, NE., Room 42-66, Washington, DC 20426, 202-219-2970.

SUPPLEMENTARY INFORMATION: In addition to publishing the full text of this document in the Federal Register, the Commission also provides all interested persons an opportunity to inspect or copy the contents of this document during normal business hours in the Public Reference Room at 888 First Street, NE., Room 2A, Washington, DC 20426.

The Commission Issuance Posting System (CIPS) provides access to the texts of formal documents issued by the Commission. CIPS can be accessed via Internet through FERC's Home Page (http://www.ferc.fed.us) using the CIPS link or the Energy Information Online icon. The full text of this document will be available on CIPS in ASCII, WordPerfect 6.1 and WordPerfect 8.0 format. User assistance is available at 202-208-2222 or by E-mail to CipsMaster@ferc.fed.us.

This document is also available through the Commission's Records and Information Management System (RIMS), an electronic storage and retrieval system of documents submitted to and issued by the Commission after November 16, 1981. Documents from November 1995 to the present can be viewed and printed. RIMS is available in the Public Reference Room or remotely via Internet through FERC's Homepage using the RIMS link or the Energy Information Online icon. User assistance is available at 202-208-2222, or by E-mail to RimsMaster@ferc.fed.us.

Finally, the complete text on diskette in WordPerfect format may be purchased from the Commission's copy contractor, RVJ International, Inc. RVJ International, Inc., is located in the Public Reference Room at 888 First Street, NE., Washington, DC 20426.

The Federal Energy Regulatory Commission (Commission) is issuing this notice to update filing fees that the Commission assesses for specific services and benefits provided to identifiable beneficiaries. Pursuant to § 381.104 of the Commission's regulations, the Commission is establishing updated fees on the basis of the Commission's Fiscal Year 1999 costs. The adjusted fees announced in this notice are effective February 15, 2001. The Commission has determined with the concurrence of the Administrator of the Office of Information and Regulatory Affairs of the Office of Management and Budget, that this final rule is not a major rule within the meaning of section 251 of Subtitle E of SBREFA. [5 U.S.C. § 804(2)] The Commission is submitting this final rule to both Houses of Congress and to the Comptroller General.

The new fee schedule is as follows:

Fees Applicable to the Natural Gas Policy Act

1. Petitions for rate approval pursuant to 18 CFR 284.123(b)(2). (18 CFR 381.403): $7,840.

Fees Applicable to General Activities

1. Petition for issuance of a declaratory order (except under Part I of the Federal Power Act). (18 CFR 381.302(a)): $15,760.

2. Review of a Department of Energy remedial order:

Amount in controversy

$0-9,999. (18 CFR 381.303(b)): $100.

$10,000-29,999. (18 CFR 381.303(b)): $600.

$30,000 or more. (18 CFR 381.303(a)): $23,010.

3. Review of a Department of Energy denial of adjustment:

Amount in controversy

$0-9,999. (18 CFR 381.304(b)): $100.

$10,000-29,999. (18 CFR 381.304(b)): $600.

$30,000 or more. (18 CFR 381.304(a)): $12,060.

4. Written legal interpretations by the Office of General Counsel. (18 CFR 381.305(a)): $4,520.

Fees Applicable to Natural Gas Pipelines

1. Pipeline certificate applications pursuant to 18 CFR 284.22. (18 CFR 381.207(b)): $1,000.

Fees Applicable to Cogenerators and Small Power Producers

1. Certification of qualifying status as a small power production facility. (18 CFR 381.505(a)): $13,550.

2. Certification of qualifying status as a cogeneration facility. (18 CFR 381.505(a)): $15,340.

3. Applications for exempt wholesale generator status. (18 CFR 381.801): $1,310.

List of Subjects in 18 CFR Part 381

Electric power plants, Electric utilities, Natural gas, Reporting and recordkeeping requirements.

Thomas R. Herlihy,
Executive Director and Chief Financial Officer.

In consideration of the foregoing, the Commission amends Part 381, Chapter I, Title 18, Code of Federal Regulations, as set forth below.

PART 381—FEES

1. The authority citation for Part 381 continues to read as follows:

Authority: 15 U.S.C. 717-717w; 16 U.S.C. 791-828c, 2601-2645; 31 U.S.C. 9701; 42 U.S.C. 7101-7352; 49 U.S.C. 60502; 49 App. U.S.C. 1-85.

§ 381.302 [Amended]

2. In § 381.302, paragraph (a) is amended by removing “$14,710” and inserting “$15,760” in its place.

§ 381.303 [Amended]

3. In § 381.303, paragraph (a) is amended by removing “$21,470” and inserting “$23,010” in its place.

§ 381.304 [Amended]

4. In § 381.304, paragraph (a) is amended by removing “$11,260” and inserting “$12,060” in its place.

§ 381.305 [Amended]

5. In § 381.305, paragraph (a) is amended by removing “$4,220” and inserting “$4,520” in its place.

§ 381.403 [Amended]

6. Section 381.403 is amended by removing “$7,320” and inserting “$7,840” in its place.

§ 381.505 [Amended]

7. In § 381.505, paragraph (a) is amended by removing “$12,650” and inserting “$13,550” in its place and by removing “$14,320” and inserting “$15,340” in its place.

§ 381.801 [Amended]

8. Section 381.801 is amended by removing “$1,530” and inserting “$1,310” in its place.

[FR Doc. 01-1149 Filed 1-12-01; 8:45 am]

BILLING CODE 6717-01-M